DEPARTMENT OF LABOR

Mine Safety and Health Administration

Petitions for Modification of Application of Existing Mandatory Safety Standard

AGENCY: Mine Safety and Health Administration, Labor.

ACTION: Notice.

SUMMARY: This notice is a summary of petition for modification submitted to the Mine Safety and Health Administration (MSHA) by the parties listed below.

DATES: All comments on the petition must be received by MSHA's Office of Standards, Regulations, and Variances on or before April 11, 2019.

ADDRESSES: You may submit your comments, identified by “docket number” on the subject line, by any of the following methods:

1. Email: zzMSHA-comments@dol.gov. Include the docket number of the petition in the subject line of the message.

2. Facsimile: 202-693-9441.

3. Regular Mail or Hand Delivery: MSHA, Office of Standards, Regulations, and Variances, 201 12th Street South, Suite 4E401, Arlington, Virginia 22202-5452, Attention: Sheila McConnell, Director, Office of Standards, Regulations, and Variances. Persons delivering documents are required to check in at the receptionist's desk in Suite 4E401. Individuals may inspect a copy of the petition and comments during normal business hours at the address listed above.

MSHA will consider only comments postmarked by the U.S. Postal Service or proof of delivery from another delivery service such as UPS or Federal Express on or before the deadline for comments.

FOR FURTHER INFORMATION CONTACT: Barbara Barron, Office of Standards, Regulations, and Variances at 202-693-9447 (voice), barron.barbara@dol.gov (email), or 202-693-9441 (fax). [These are not toll-free numbers.]

SUPPLEMENTARY INFORMATION: Section 101(c) of the Federal Mine Safety and Health Act of 1977 and Title 30 of the Code of Federal Regulations Part 44 govern the application, processing, and disposition of petitions for modification.

I. Background

Section 101(c) of the Federal Mine Safety and Health Act of 1977 (Mine Act) allows the mine operator or representative of miners to file a petition to modify the application of any mandatory safety standard to a coal or other mine if the Secretary of Labor (Secretary) determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Number: M-2019-001-C.

Petitioner: Rockwell Mining, LLC, 300 Kanawha Boulevard, East (ZIP 25301), Post Office Box 273, Charleston, West Virginia 25321-0273.

Mine: Matewan Tunnel Mine, MSHA I.D. No. 46-08610, located in Boone County, West Virginia.

Regulation Affected: 30 CFR 75.1108(c) (Approved conveyor belts).

Modification Request: The petitioner requests a modification of the existing standard to its overland coal belt that travels, in part, through the Matewan Tunnel Mine (“Tunnel Mine”). The petitioner submits that a modification of the Part 14 belt standard is warranted because the unique layout of the mine and additional safety measures the petitioner will put in place will make the conveyor belt in the Tunnel Mine at least as safe as compliance with Part 14.

The petitioner states that:

(1) The Tunnel Mine is a straight, three-entry tunnel mine developed in 1998. The Tunnel Mine has been non-producing since 1998. At the time of development, the purpose was to provide an excavation to install a conveyor system to transport raw coal from Harris No. 1 Mine (Harris) to the Rocklick Preparation Plant (Rocklick) and transport clean coal back to the Norfolk Southern Railroad loadout at Harris. The Matewan Coal Seam was chosen due to its contiguous vertical position to each operation (Harris and Rocklick). The Matewan Seam has no previous mining history in this area due to poor quality and its low average seam height that is 33 inches thick requires 48 inches of outseam excavation to facilitate the conveyor system. The Tunnel Mine does not liberate any methane.

(2) The Tunnel Mine consists of three entries developed on a straight course of 10,500 feet from outcrop to outcrop. The roof in the belt entry (center entry) is supported with 6-foot fully grouted bolts with T5 steel channel every row. Steel straps and 4-foot conventional bolts support the ribs. The final conveyor structure is offset in the entry to provide complete access along its entire length. Thus, the ventilation system will not likely be compromised by roof or rib integrity.

(3) The 42-inch conveyor is 12,445 feet long and is powered by two separate drive installations on the surface at each end of the underground excavation (500 HP and 1,000 HP). The conveyor is designed to turn over on each end to maintain the material handling surface in an upward facing position. Both the top and bottom structure are troughed 35 degrees to provide simultaneous transportation capacity on the top and return portions of the belt. The conveyor uses special belt with steel cable carcass related at 1,900 pounds per inch of width (PIW). Traveling 680 feet per minute (FPM), the belt system has a carrying capacity of 1,000 tons per hour (TPH) on each belt (top and bottom) totaling 2,000 TPH. The installation was completed and commissioned for service in February 1999.

(4) The conveyor belt inside the Tunnel Mine originally handled the production from longwall mines from Harris to Rocklick and back to the loadout. The Tunnel Mine currently only transports a fraction of its design capacity. The Tunnel Mine transports raw coal estimated at 4,000 raw tons daily from two continuous miner sections in the Black Oak Mine to Rocklick without utilizing the return belt capacity.

(a) The portal at the Preparation Plant side of the Tunnel Mine is known as the Rocklick Portal. The portal at the other end is known as the Harris Portal. The Tunnel Mine is ventilated from the Rocklick Portal with a 5.5-foot blowing fan with a 1,200 RPM speed, set to Blade Setting No. 5, producing 105,000 CFM of airflow.

(b) At the Rocklick Portal, fresh air enters in the No. 1 entry and travels to the No. 11 crosscut and splits. A small portion of the air goes to entry Nos. 2 and 3 from crosscut No. 11 back to the Rocklick Portal. The remaining air flows to the Harris Portal from crosscuts 11 to 75 in all three entries. The air in the Tunnel Mine is considered neutral.

(c) The existing belt, which was installed sometime between 2005 and 2007, is in excellent condition with little wear. There are no belt drives, tails, or dumping points on the underground portion of the belt flight. The belt runs one shift per day, for approximately 8 to 9 hours. At the Harris Portal, an additional 1,250 feet of conveyor takes the belt to the Black Oak Mine surface loading point. At the Rocklick Portal, about 500 feet of conveyor belt takes the coal to the raw coal pile.

(d) The Tunnel Mine has numerous safety features including:

(i) The belt entry is separated by stopping lines on each side.

(ii) Mandoors every 300 feet on each stopping line.

(iii) Carbon Monoxide (CO) monitors every 1,000 feet.

(iv) Conveyor belt alignment rollers every 1,000 feet.

(v) Fire taps and hoses located every 300 feet.

(vi) The belt is x-rayed annually to ensure the integrity of the existing belt.

(vii) Two-way communications (pager phones) are located underground starting every 7 breaks throughout the mine. The control room operator at Rocklick monitors the communication system. Two-way wireless radios worn by the surface employee can communicate with the examiner underground.

(viii) Graveled roadways.

(ix) Emergency belt stop switches every 7 breaks.

(x) No issued violations on the conveyor belt since May 19, 1998.

(e) Certified examiners travel the belt entry on a 2-man ride to examine the belt once per shift and record those findings in required mine books.

(f) The Tunnel Mine normally operates with only one miner underground while the belt is running. The examiners of the Tunnel Mine are a certified foreman and electrician. Examinations take about 1 hour per shift. When necessary, a certified miner helps with maintenance and other tasks in the mine.

(g) There are no belt drives, tailpieces, or electric motors inside the Tunnel Mine. The belt only runs through the mine on conveyor structure and rollers.

(h) The belt is approximately 1½ inches thick, 48 inches wide, and has steel cable imbedded in the belt. The belt at each end is turned over so that the coal side is always facing up on transport and return. This design greatly reduces any spillage and accumulations in the Tunnel Mine.

(i) Self-Contained Self-Rescuer Caches are stored at breaks 14, 28, 37, 42, 56, and 70. There are also emergency barricade materials kept in the No. 3 entry.

(j) The Tunnel Mine has emergency lifelines throughout. Further, it has significant fire detection and firefighting devices in the mine that include:

—A waterline with fire hoses and nozzles every 300 feet.

—A beltline that has 13 smoke detection and carbon monoxide (CO) sensors approximately every 5 to 6 breaks. The CO sensors are currently set to `low alarm' at 5 ppm and `high alarm' at 10 ppm, far below levels that present any danger to miners. The CO monitoring system will be programmed to shut off the belt at `high alarm'.

—A 2-man ride used to examine the belt that has self-rescuers and separate fire extinguishers.

(k) The alternative to using the Tunnel Mine belt will be to truck Black Oak Mine's coal to Rocklick. This will significantly increase the number of trucks on Route 85 in Boone County between Black Oak and the Rocklick Preparation Plant. The increase in trucks going in and out of the Rocklick Preparation Plant will also add congestion to the load-out traffic flow.

(l) Rockwell has not experienced any safety issues with the conveyor belt in the Tunnel Mine. Rockwell mining has never experienced any fire related issues on the conveyor belt at the Tunnel Mine or experienced any significant issues with rollers on the belt in the Tunnel Mine beyond routine maintenance.

(m) Based on chemical laboratory analysis, the belt has been confirmed to be Part 18 compliant. The belt, however, has not been tested for Part 14 compliance due to Rockwell Mining's difficulty in finding an appropriate testing facility.

(5) Rockwell Mining has investigated and determined an alternative method of achieving the desired result of Part 14, which is the reduction of potential belt fires and exposure to fire hazards.

The petitioner proposes the following alternative method:

—Prior to a qualified person entering the mine, the CO system will be monitored for two hours for any sign of combustion. At the end of coal transport each day, the CO system will be monitored for 4 hours for any signs of combustion (e.g., CO or smoke detection by CO monitors on the belt).

—A daily functional (bump) test of at least one sensor will be conducted for CO in addition to the weekly functional test required under 30 CFR 75.1103-8. A different sensor will be bump tested each day. In addition, CO monitors will be installed every 300 feet, instead of the 1,000 feet required by current law.

—Training for miners on location of Part 18 belt and interim safety measures being taken herein and revised training on the requirements of 30 CFR 75.1502, as appropriate.

—An immediate functional test of the fire suppression system along with additional tests conducted weekly. A daily visual inspection of all fire suppression systems will be conducted by a qualified person.

—Install a “waterwall system” every 900 feet, which will be tapped into the CO monitoring system. The waterwall will activate at 50 ppm of CO. The waterwall will provide 50 psi and 45 GPM of water curtain from roof to floor and rib to rib.

—Cameras will be installed every 1,000 feet to allow continuous visual monitoring of the belt configuration including before examiners enter the mine.

—Existing heat sensors will be utilized every 125 feet to continually monitor the beltline to detect potential heat sources.

—The belt will be cleared of coal and during examination will run empty. Examinations generally take less than 1 hour with the belt running approximately 8 to 9 hours a day.

—All examiners are trained and will continue to be trained monthly on the locations and use of escapeways, mandoors, SCSR caches, lifelines, and fire suppression and fire-fighting equipment in the mine.

—No motors or electrical equipment will be added and no changes will be made to the belt configuration or layout that would add motors or belt drives underground while this petition for modification is in effect.

—The examiner will enter the mine from the Harris Portal, the downwind side so that the examiner is traveling towards the fan. From entries 75 to 11, the examiner will be traveling into fresh air. From crosscut No. 11 to the Rocklick Portal, fresh air will come from behind the examiner for those 11 breaks.

—The examiners will be trained to immediately notify the dispatcher in the event of CO detection. Radio contact is established throughout the Tunnel Mine. Should a fire be encountered and not extinguished according to applicable law, the examiner will withdraw from the Tunnel Mine and notify MSHA as required under applicable law.

—If the CO system is down, the belt will not operate until necessary repairs have been made to the CO system.

—As the belt is repaired and sections replaced, Part 14 belt will be used. In 2019, about 2,000 feet of the belt are expected to be replaced.

—While rock-dusting and most maintenance is conducted on the beltline, the belt will not be in operation.

—Petitioner will continue annual x-ray examinations.

—All necessary repair and replacement belt will be Part 14 compliant.

The petitioner asserts that these alternative methods will guarantee no less than the same measure of protection from the potential hazards for which 30 CFR 75.1108(c) was intended to guard against.

Sheila McConnell,
Director, Office of Standards, Regulations, and Variances.

[FR Doc. 2019-04434 Filed 3-11-19; 8:45 am]

BILLING CODE 4520-43-P